SMALL BUSINESS ADMINISTRATION

[Declaration of Disaster #3594]

State of Wisconsin (Amendment #2)

In accordance with a notice received from the Department of Homeland Security—Federal Emergency Management Agency, effective July 3, 2004, the above numbered declaration is hereby amended to establish the incident period for this disaster as beginning on May 19, 2004, and continuing through July 3, 2004.

All other information remains the same, i.e., the deadline for filing applications for physical damage is August 18, 2004, and for economic injury the deadline is March 21, 2005.

(Catalog of Federal Domestic Assistance Program Nos. 59002 and 59008)
Dated: July 8, 2004.
Herbert L. Mitchell,
Associate Administrator for Disaster Assistance.

[FR Doc. 04-15955 Filed 7-13-04; 8:45 am]

BILLING CODE 8025-01-P